DEPARTMENT OF HEALTH AND HUMAN SERVICES

Centers for Disease Control and Prevention

Notice of Meeting

The National Institute for Occupational Safety and Health (NIOSH) of the Centers for Disease Control and Prevention (CDC) announces the following meeting and request for information:

Name: Peer Review Meeting on the NIOSH Research Study Entitled “Fall Prevention for Aerial Lifts in the Construction Industry.”

Time and Date: 9 a.m.-12 p.m., August 10, 2004.

Place: National Institute for Occupational Safety and Health, 1095 Willowdale Rd., Conference Room L-1BCD, Morgantown, West Virginia 26505-2888.

Status: Open to the public, limited only by the space available. The meeting room accommodates approximately 50 people.

Purpose: To provide individual comments on the technical and scientific aspects of the research protocol for a study on the prevention of fall/collapse/tip-over injuries that are associated with scissor lifts among construction workers.

Summary: The agenda will include a presentation/overview of the study that will be followed by comments on the technical and scientific aspects of the planned research. Viewpoints and suggestions from industry, labor, academia, other government agencies, and the public are invited. Written comments also will be considered.

Contact Person for Technical Information: Christopher S. Pan, Ph.D., Project Officer, Division of Safety Research, NIOSH, CDC, M/S G800, 1095 Willowdale Road, Morgantown, West Virginia, 26505-2888. Telephone (304) 285-5978, E-mail cpan@cdc.gov. Copies of the draft protocol may be obtained by contacting Dr. Pan.

The Director, Management Analysis and Services Office, has been delegated the authority to sign Federal Register Notices pertaining to announcements of meetings and other committee management activities, for both CDC and the Agency for Toxic Substances and Disease Registry.

Dated: June 9, 2004.
Alvin Hall,
Director, Management Analysis and Services Office, Centers for Disease Control and Prevention.

[FR Doc. 04-13555 Filed 6-15-04; 8:45 am]

BILLING CODE 4163-19-P